DEPARTMENT OF HOUSING AND URBAN DEVELOPMENT

[Docket No. FR-5689-N-06]

Notice of Proposed Information Collection: Comment Request Focus Groups About the Housing Search Process for Lesbian, Gay, Bisexual and Transgender (LGBT) People

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: September 16, 2013.

ADDRESSES: Interested persons are invited to submit comments regarding this proposal. Comments should refer to the proposal by name and should be sent to: Reports Liaison Officer, Office of Policy Development and Research, Department of Housing and Urban Development, 451 Seventh Street SW., Room 8230, Washington, DC 20410.

FOR FURTHER INFORMATION CONTACT: Jennifer Stoloff, Department of Housing and Urban Development, Office of Policy Development and Research, 451 7th Street SW., Room 8120, Washington, DC 20410; telephone (202) 402-5723, (this is not a toll free number). Copies of the proposed data collection instruments and other available documents may be obtained from Dr. Stoloff.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Focus Groups about the Housing Search Process for Lesbian, Gay, Bisexual and Transgender (LGBT) People.

Description of the Need for Information and Proposed Use: The Department is conducting this study as part of a larger effort to study housing discrimination. As part of that research, the Department would like to learn more about the process that people use to search for housing. Specifically, we are interested in the manner in which people identify themselves as lesbian, gay, or transgender when searching for rental housing. The full project is to conduct in-person testing for lesbian and gay people in at least two major metropolitan rental markets and transgender people in at least one market. The study will use paired testing methods to measure disparate treatment.

Members of the Affected Public:

Potential renters who are LGBT persons (four focus groups of 15 people each) | Up to 60.
Potential renters who are heterosexual, for comparison purposes | Up to 15.

Estimation of the Total Number of Hours Needed To Prepare the Information Collection Including Number of Respondents, Frequency of Response, and Hours of Response:

Instrument | Number of respondents | Number responses per respondent | Average burden/ response (in hours) | Total burden hours
Informed Consent Form (ICF) | 75 | 1 | Up to 15 minutes (or .25 hours) | 18.75.
Participation in focus group | 75 | 1 | 120 minutes (2 hours) | 150.
Total |  |  |  | 168.75.

Status of the Proposed Information Collection: Pending OMB approval.

Authority: Title 13 U.S.C. Section 9(a), and Title 12, U.S.C., Section 1701z-1 et seq.

Dated: July 9, 2013.
Jean L. Pao,
General Deputy Assistant Secretary for Policy Development and Research.

[FR Doc. 2013-17071 Filed 7-16-13; 8:45 am]

BILLING CODE 4210-67-P